DEPARTMENT OF TRANSPORTATION

Federal Aviation Administration

[Docket No. FAA-2010-0109]

Petition for Waiver of the Terms of the Order Limiting Scheduled Operations at LaGuardia Airport; Procedures for the Reallocation of Slots at Ronald Reagan Washington National Airport and LaGuardia Airport

AGENCY: Department of Transportation, Federal Aviation Administration (FAA).

ACTION: Notice of procedures for the reallocation of slots at Ronald Reagan Washington National Airport and LaGuardia Airport.

SUMMARY: Under this notice, the FAA announces the procedures for the reallocation of slots at Ronald Reagan Washington National Airport and LaGuardia Airport, which are being divested by Delta Air Lines, Inc. and US Airways, Inc. resulting from a grant of waiver to them.

SUPPLEMENTARY INFORMATION: On October 7, 2011, the Secretary of Transportation and the Administrator of the Federal Aviation Administration (FAA) granted with conditions a joint waiver request by Delta Air Lines, Inc. (Delta) and US Airways, Inc. (US Airways) from the prohibition on purchasing operating authorizations (slots) at LaGuardia Airport (LGA). 76 FR 63702 (Oct. 13, 2011) (the Waiver). The Waiver permitted Delta and US Airways 30 days to accept the terms of the Waiver. They accepted by joint letter on October 12, 2011.

Among the conditions of the Waiver, the Secretary and the Administrator require Delta and US Airways collectively to dispose of 16 slots at Ronald Reagan Washington National Airport (DCA) and 32 slots at LGA. Those divested slots will be reallocated in one slot bundle for DCA and two slot bundles (of 16 slots each) for LGA to eligible new entrant and limited incumbent carriers. The following discussion describes the procedures and timelines for that reallocation.

Registration for the Slot Reallocation

The Waiver establishes that new entrant and limited incumbent carriers with less than five percent of the total slot holdings at DCA or LGA, and which do not code share to or from DCA or LGA with any carrier that has five percent or more of the total slot holdings, may participate in the reallocation at the respective airport. Eligible participating carriers also may not be subsidiaries, either partially or wholly owned, of a company whose combined slot holdings are equal to or greater than five percent of the total slot holdings at DCA or LGA respectively, with the exception of Frontier Airlines as noted in the Waiver.

Because the identities of slot bidders are undisclosed during the bidding period, the FAA is requiring registration by eligible carriers to participate in the reallocation process. Eligible carriers may register by e-mail to 7-awa-slotadmin@faa.gov between October 19 and October 28, 2011. Please include “DCA/LGA Slot Reallocation” in the email subject line. An eligible carrier must register as an individual carrier and may not submit a joint bid with another carrier. The registering carrier must indicate whether it intends to bid on slot bundles at DCA or LGA or both airports. The registering carrier must state whether there is common ownership or control of, by, or with any other carrier at the respective airport. Finally, the registering carrier must certify that it will disclose no purchase offer information to any person other than its agent.

The FAA will confirm eligibility and respond by email with a bidder identification number for each slot bundle no later than November 10, 2011.

Slot Bundles

The Waiver requires the divested slots to be reallocated in bundles. For DCA slots, there is one bundle of 16 slots (DCA Bundle). For LGA slots, there are two bundles of 16 slots each (LGA Bundle A and LGA Bundle B). The contents of the slot bundles are included in an appendix to this document.

Bidding on Slot Bundles

The Waiver permits a bidding period of seven business days. Accordingly, the bidding period will open at 9 a.m., Eastern time, on November 14, 2011, and it will close at 5 p.m., Eastern time, on November 22, 2011. Registered bidders may submit cash-only bids at any time during that bidding period and may submit multiple bids during the bidding period. The FAA will construe the latest received bid as that bidder's final bid.

Registered bidders may submit bids via email to 7-awa-slotadmin@faa.gov. Please include “DCA/LGA Slot Reallocation” in the e-mail subject line. The FAA requests the following format for required bid information in the body of the email:

Bidder Identification Number, Slot Bundle, Preference Ranking, Bid Price

The preference ranking applies only to the LGA slot bundles, and the FAA will use it only if one bidder submits the highest bid for both bundles. This preference ranking should be either a “1” (first priority) or a “2” (second priority).

The FAA will reject any bid that does not contain all required bid information. The FAA also will reject any bid received after 5 p.m., Eastern time, on November 22, 2011. The FAA will use its email system time stamp as the submission time of the bid. Bids are effective upon receipt, and the FAA will not permit the withdrawal of any bid.

The FAA will post a running tally of bids for each slot bundle at http://www.faa.gov/about/office_org/headquarters_offices/agc/ReAllocation. That tally will include the required bid information and time stamp of the bid. The FAA will post bids at approximately 9 a.m., 12 p.m., and 4 p.m., Eastern time, on each business day of the bidding period (for bids received by 8 a.m., 11 a.m., and 3 p.m., Eastern time, respectively). On November 22, the FAA will post bids each hour from 9 a.m. through 4 p.m., Eastern time, for bids received prior to the previous half hour (e.g., at 10 a.m. for all bids received by 9:30 a.m.). On the following day, November 23, 2011, the FAA will post bids received during the last hour of bidding.

Completing the Slot Reallocation Transaction

On November 23, 2011, the FAA will notify the divesting carrier and the winning bidder for each bundle of the winning bid and contact information for completing the transaction. The Waiver requires the divesting carrier and each winning bidder to enter into a binding agreement with respect to the sale of the divested slots within five business days from the FAA's notice of the winning bid. Accordingly, the FAA expects the carriers will notify the FAA that they have entered into binding agreements with respect to the sale of the divested slots, via e-mail to 7-awa-slotadmin@faa.gov, no later than December 1, 2011. That notification must certify that only monetary consideration will be or has been exchanged for the slots.

Posting Bid Information

After the FAA receives notice of the binding agreement between the divesting carrier and the winning bidder, it will post the winning bid and identity of the winning bidder at http://www.faa.gov/about/office_org/headquarters_offices/agc/ReAllocation. The FAA also will post all other bid information with the name of the respective bidders.

In the unlikely event that no bids are received for a particular slot bundle, those slots would revert to the FAA. The FAA would post notice if no bids were received at http://www.faa.gov/about/office_org/headquarters_offices/agc/ReAllocation.

DATES: Registration by eligible carriers must be completed by October 28, 2011. The bidding period for registered bidders will open at 9 a.m., Eastern time, on November 14, 2011, and will close at 5 p.m., Eastern time, on November 22, 2011.

ADDRESSES: Requests for registration and bids may be submitted by e-mail to the Slot Administration Office at 7-AWA-slotadmin@faa.gov. Information regarding the slot reallocation may be found at: http://www.faa.gov/about/office_org/headquarters_offices/agc/ReAllocation.

FOR FURTHER INFORMATION CONTACT: Robert Hawks, Office of the Chief Counsel, Federal Aviation Administration, 800 Independence Avenue, SW., Washington, DC 20591; telephone number: 202-267-7143; fax number: 202-267-7971; e-mail: rob.hawks@faa.gov.

Issued in Washington, DC, on October 18, 2011.
Rebecca B. MacPherson,
Assistant Chief Counsel for Regulations.

Appendix

The DCA Bundle consists of:

Slot ID | Time | Frequency
1147 | 0700 | X67
1132 | 0800 | Daily
1150 | 0800 | Daily
1056 | 0900 | Daily
1030 | 1000 | Daily
1083 | 1000 | Daily
1223 | 1100 | Daily
1027 | 1200 | Daily
1142 | 1300 | Daily
1109 | 1400 | Daily
1389 | 1600 | Daily
1238 | 1700 | Daily
1401 | 1800 | Daily
1515 | 1800 | Daily
1308 | 2000 | X6
1065 | 2100 | X6

The LGA Bundle A consists of:

Slot ID | Time | Arr./Dep. | Frequency
3197 | 0600 | Departure | X67
3183 | 0630 | Departure | X67
2138 | 0730 | Arrival | X67
2202 | 0830 | Departure | X67
3003 | 0830 | Arrival | X67
3230 | 0930 | Departure | X67
3636 | 1100 | Arrival | X67
3430 | 1230 | Departure | X6
3415 | 1300 | Arrival | X6
2160 | 1400 | Departure | X6
2188 | 1500 | Arrival | X6
3089 | 1600 | Departure | X6
3606 | 1700 | Arrival | X6
3015 | 1830 | Departure | X6
3848 | 2000 | Arrival | X6
3110 | 2100 | Arrival | X6

The LGA Bundle B consists of:

Slot ID | Time | Arr./Dep. | Frequency
3326 | 0630 | Departure | X67
2201 | 0700 | Departure | X67
2108 | 0800 | Arrival | X67
3318 | 0930 | Departure | X67
2072 | 1000 | Arrival | X67
2182 | 1030 | Departure | X67
3093 | 1230 | Arrival | X6
3075 | 1330 | Departure | X6
3098 | 1430 | Arrival | X6
3569 | 1600 | Departure | X6
2004 | 1630 | Arrival | X6
2129 | 1730 | Departure | X6
2007 | 1830 | Arrival | X6
2038 | 1930 | Departure | X6
3104 | 2030 | Arrival | X6
3054 | 2130 | Arrival | X6

[FR Doc. 2011-27434 Filed 10-21-11; 8:45 am]

BILLING CODE 4910-13-P